DEPARTMENT OF STATE

[Public Notice 5347]

Notice of Receipt of Application for a Presidential Permit for Pipeline Facilities To Be Operated and Maintained on the Border of the United States

AGENCY: Department of State.

ACTION: Notice.

Notice is hereby given that the Department of State has received an application from PMC (Nova Scotia) Company (“PMC Nova Scotia”) for itself, and on behalf of Plains Marketing Canada L.P. (both Canadian companies), for a Presidential permit, pursuant to Executive Order 13337 of April 30, 2004, to operate and maintain a pipeline crossing the U.S.-Canada border at a point near Raymond, Montana. In 1972, the Department originally issued a permit to construct, operate and maintain this oil pipeline to Wascana Pipe Line Incorporated. According to the PMC Nova Scotia application, Wascana Pipe Line Ltd. was dissolved in 1999 and its assets distributed to the Murphy Oil Company Ltd. These assets, including the Wascana River pipeline, were subsequently acquired from Murphy Oil Company Ltd. in May, 2001 by PMC Nova Scotia, for itself and on behalf of Plains Marketing Canada, L.P. Therefore, PMC Nova Scotia for itself, and on behalf of Plains Marketing Canada L.P., seeks a new Presidential permit reflecting the change of ownership.

PMC Nova Scotia and Plains Marketing Canada are direct subsidiaries of Plains All American Pipeline, L.P., a Texas partnership. The existing pipeline originates eight miles northeast of Poplar, Montana, and runs to the international boundary between the U.S. and Canada at a point near Raymond, Montana, then connects to similar facilities in the Province of Alberta, Canada. PMC Nova Scotia has, in written correspondence to the Department of State, committed to abide by the relevant terms and conditions of the permit previously held by Wascana Pipe Line Ltd. Further, PMC Nova Scotia indicated in that correspondence that the operation of the pipeline will remain essentially unchanged from that previously permitted. Therefore, in accordance with 22 CFR 161.7(b)(3) and the Department's Procedures for Issuance of a Presidential Permit Where There Has Been a Transfer of the Underlying Facility, Bridge or Border Crossing for Land Transportation (70 FR 30990, May 31, 2005), the Department of State does not intend to conduct an environmental review of the application unless information is brought to its attention that the transfer potentially would have a significant impact on the quality of the human environment.

As required by E.O. 13337, the Department of State is circulating this application to concerned federal agencies for comment.

DATES: Interested parties are invited to submit, in duplicate, comments relative to this proposal on or before April 19, 2006 to Charles Esser, Office of International Energy and Commodity Policy, U.S. Department of State, Washington, DC 20520. The application and related documents that are part of the record to be considered by the Department of State in connection with this application are available for inspection in the Office of International Energy and Commodity Policy during normal business hours.

FOR FURTHER INFORMATION CONTACT: Charles Esser, Office of International Energy and Commodity Policy (EB/ESC/IEC/EPC), U.S. Department of State, Washington, DC 20520; or by telephone at (202) 647-1291; or by fax at (202) 647-4037. The alternate contact is Matthew T. McManus in the same office, with telephone number (202) 647-3423.

Dated: March 10, 2006.
Matthew T. McManus,
Acting Director, Office of International Energy and Commodity Policy, U.S. Department of State.

[FR Doc. E6-3973 Filed 3-17-06; 8:45 am]

BILLING CODE 4710-07-P